DEPARTMENT OF THE INTERIOR

Bureau of Land Management

[LLNMP01000 L1430000-EU000; NMNM-121140]

Notice of Realty Action: Proposed Direct Sale of Public Land, Chaves County, NM

AGENCY: Bureau of Land Management, Interior.

ACTION: Notice of Realty Action.

SUMMARY: The Bureau of Land Management (BLM) proposes to sell two small parcels totaling 60 acres in Chaves County, New Mexico. These parcels are being proposed for direct sale to the Roswell Gun Club at no less than the appraised fair market value (FMV) to resolve inadvertent, unauthorized use and occupancy of public lands. The sale is pursuant to Section 203 of the Federal Land Policy and Management Act of 1976 (FLPMA) and is consistent with the BLM Roswell Resource Management Plan dated October 1997, as amended. No significant resource values will be affected by disposal of these parcels from Federal ownership.

DATES: Interested parties may submit written comments to the BLM at the address stated below. To ensure consideration in the environmental analysis of the proposed sale, comments must be received by the BLM no later than August 23, 2010.

ADDRESSES: Written comments regarding the proposed sale should be addressed to the BLM, Field Manager, Roswell Field Office, 2909 West Second, Roswell, New Mexico 88201. Environmental and other documentation associated with this proposal is available for review at this address as well.

FOR FURTHER INFORMATION CONTACT: Angel Mayes, Assistant Field Manager, Lands and Minerals, at the above address or telephone (575) 627-0250 or e-mail angel_mayes@nm.blm.gov.

SUPPLEMENTARY INFORMATION: The following parcels of public lands in Chaves County, New Mexico proposed for direct sale are described as:

New Mexico Principal Meridian

T. 9 S., R. 24 E.,

Sec. 26, W½NW¼SE¼;

Sec. 35, N½NE¼NE¼, NE¼NW¼NE¼ and SE¼NE¼NE¼.

The area described contains 60 acres, more or less, in Chaves County.

The parcels are 5 miles northeast of the City of Roswell in an area south of U.S. Highway 70 and north of the Old Clovis/Roswell Highway. Access to the parcels is off of U.S. Highway 380. This is a mostly undeveloped area and a large portion of the land in the immediate proximity of the subject property is currently owned by the New Mexico Military Institute and the Roswell Gun Club. The unauthorized, inadvertent uses on these parcels consist of a two-track roadway, which provides access to the existing Roswell Gun Club, firing ranges, sightings-in range, small arms firing range, and various earthen berms. The authority for the sale is Section 203 of the FLPMA (43 U.S.C. 1713) and regulations found at 43 CFR 2710. Regulations contained in 43 CFR 2711.3-3 make allowances for direct sales when a competitive sale is inappropriate and when the public interest would best be served by a direct sale. In accordance with 43 CFR 2710.0-6(3)(iii) and 43 CFR 2711.3-3(5), the BLM authorized officer finds that the public interest would be best served by resolving the inadvertent unauthorized use and occupancy of BLM-managed lands by direct sale to a landowner whose improvements occupy portions of the parcels and to protect existing equities in the land.

The parcels are not required for Federal purposes, and the 1997 BLM Roswell Resource Management Plan, as amended, provides for disposal in support of unauthorized use through sale to resolve long-standing trespass if the disposal criteria are met. Therefore, the parcels meet the qualifications for disposal from Federal ownership. The disposal (sale) of the parcels would serve the public interest for private economic development which outweighs other public objectives and values with respect to these parcels. Upon publication of this Notice, the land will be segregated from all forms of appropriation under the public land laws, including the mining laws, except the sale provisions of FLPMA. The segregative effect will terminate upon issuance of a patent, publication in the Federal Register of a termination of segregation, or July 9, 2012, whichever occurs first, unless the segregation period is extended by the BLM State Director, New Mexico, in accordance with 43 CFR 2711.1-2(d) prior to the termination date. Upon publication of this notice and until completion of the sale, the BLM will not accept land use applications regarding these parcels.

Federal law requires purchasers to be citizens of the United States, 18 years of age or older; or, in the case of corporations, to be subject to the laws of any State or of the United States; a State, State instrumentality or political subdivision authorized to hold property or an entity legally capable of conveying lands or interests therein under the laws of the State of New Mexico. The purchaser will be allowed 30 days from receipt of a written offer from the BLM to submit a deposit of 30 percent of the appraised FMV of the parcels, and 180 days thereafter to submit the balance. Payment must be in the form of a certified check, postal money order, bank draft, or cashier's check made payable in U.S. dollars to the order of the U.S. Department of the Interior BLM. Personal checks will not be accepted. Failure to meet conditions established for this sale will void the sale and any monies received will be forfeited. If the balance of the purchase price is not received within the 180 days, the deposit shall be forfeited to the United States and the parcels withdrawn from sale.

Any patent issued will contain the following numbered reservations, covenants, terms and conditions:

1. A reservation of a right-of-way thereon for ditches and canals constructed by the authority of the United States pursuant to the Act of August 30, 1890, (26 Stat. 391; 43 U.S.C. 945);

2. A reservation of a right-of-way, NMLC-065823, issued July 17, 1948, without expiration, to the New Mexico State Highway Department and Transportation Department for the construction and maintenance for U.S. Highway 70;

3. A reservation of a right-of-way, NMNM-122357, issued pursuant to the Act of October 21, 1976, (43 U.S.C. 1761); located in the W½NW¼SE¼ of Section 26, T. 9 S., R. 24 E., NMPM, New Mexico. The right-of-way has been issued to the United States of America, administered through the BLM, or its assigns, giving the BLM the right to use an existing roadway for the purpose of administrative access to public lands located south of the subject properties. The right-of-way is 1,378.34 feet in length by 30 feet in width for approximately .94 acres more or less;

4. A reservation of a right-of-way, NMNM 055592, issued by the United States on May 25, 1983, expiring May 25, 2023, to Qwest Corporation for the construction, maintenance, and operation of a buried telephone line located in the NW¼SE¼ section 26, T. 9 S., R. 24 E., NMPM, New Mexico;

5. A reservation of all minerals and mineral interests for and under the subject parcels by the United States, together with the right to prospect for, mine, and remove such deposits from the same under applicable law and such regulations as the Secretary of the Interior may prescribe;

6. A notice and indemnification statement under the Comprehensive Environmental Response, Compensation and Liability Act (42 U.S.C. 9620(h)), as amended by the Superfund Amendments and Reauthorization Act of 1988, (100 Stat. 1670), holding the United States harmless from any release of hazardous materials that may have occurred as a result of any authorized or unauthorized use of the property by other parties; and

7. Any additional terms and conditions that the authorized officer deems appropriate to ensure proper land use and protection of the public interest.

No warranty of any kind, expressed or implied, is given by the United States as to the title, physical condition, or potential uses of the parcels of land proposed for sale, and the conveyance will not be on a contingency basis. In order to determine the value, through appraisal, certain extraordinary assumptions may be made of the attributes and limitations of the lands and potential effects of local regulations and policies on potential future land uses. Through publication of this Notice of Realty Action, the BLM gives notice that these assumptions may not be endorsed or approved by units of local government. It is the buyer's responsibility to be aware of: (1) All applicable Federal, State, or local government laws, regulations, or policies that may affect the subject parcels or its future uses; and (2) existing or prospective uses of nearby properties. When conveyed out of Federal ownership, the lands will be subject to any applicable laws, regulations, and policies of the applicable local government for proposed future uses. It will be the responsibility of the purchaser to be aware of those laws, regulations and policies, and to seek any required local approvals for future uses. Buyers should also make themselves aware of any Federal or State law or regulations that may impact the future use of the properties. If the parcels lack access from a public road or highway, they will be conveyed as such, and future access acquisition will be the responsibility of the buyer.

Public Comments: For a period until August 23, 2010, interested parties and the general public may submit, in writing, any comments concerning the parcels being considered for direct sale, including notification of any encumbrances or other claims relating to the parcels, to the BLM Roswell Field Office Field Manager at the above address. In order to ensure consideration in the environmental analysis of the proposed sale, comments must be in writing and postmarked or delivered within 45 days of the initial date of publication of this Notice. Comments, including names and street address of respondents, will be available for public review at the BLM Roswell Field Office during regular business hours. Individual respondents may request confidentiality. Before including your address, phone number, e-mail address, or other personal identifying information in your comment, you should be aware that your entire comment—including your personal identifying information—may be made publicly available at any time. While you can ask us in your comment to withhold your personal identifying information from public review, we cannot guarantee that we will be able to do so.

Authority: 43 CFR 2711.

Charles Schmidt,
Field Manager, Roswell.

[FR Doc. 2010-16605 Filed 7-7-10; 8:45 am]

BILLING CODE 4310-VA-P